DEPARTMENT OF HEALTH AND HUMAN SERVICES

Administration for Community Living

Solicitation for Nominations To Serve on the Advisory Council To Support Grandparents Raising Grandchildren

AGENCY: Administration for Community Living, HHS.

ACTION: Notice.

SUMMARY: The Secretary of Health & Human Services (Secretary) seeks nominations for grandparents who are raising grandchildren and older relatives who are caring for children to serve on the Advisory Council to Support Grandparents Raising Grandchildren.

DATES: Nominations must be submitted by Monday December 3, 2018. (Nominations submitted via mail must be postmarked by Monday December 3, 2018.)

ADDRESSES: Nominations, including attachments, may be submitted as follows:

(1) Email: Send to: SGRG.Act@acl.hhs.gov (include the name of the nominee in the subject line)

(2) Mail or express delivery: Submit materials to: Advisory Council to Support Grandparents Raising Grandchildren, Administration for Community Living, 330 C Street SW, Washington, DC 20201.

For questions, contact Whitney Bailey at Whitney.Bailey@acl.hhs.gov.

SUPPLEMENTARY INFORMATION: The number of grandparents and other older relatives who are caring for children is significant and growing, in part due to the opioid crisis. Although caregivers' lives are enhanced by the experience, providing full-time care to children can decrease caregivers' abilities to address their own health and well-being needs. Recognizing that these caregivers would benefit from improved coordination of resources intended to support them, as well as better dissemination of information about those resources, the Supporting Grandparents Raising Grandchildren Act (Pub. L. 115-196) established an Advisory Council to Support Grandparents Raising Grandchildren The Advisory Council will identify, promote, coordinate, and disseminate to the public information, resources, and the best practices available to help grandparents and other older relatives both meet the needs of the children in their care; and maintain their own physical and mental health and emotional well-being. The Advisory Council is specifically directed to consider the needs of those affected by the opioid crisis, as well as the needs of members of Native American Tribes.

The Department of Health and Human Services is the lead agency, and within it, the Administration for Community Living has been designated to execute its responsibilities.

Membership

The Advisory Council will include the following (or their designees): The Secretary of Health and Human Services; the Secretary of Education; the Administrator of the Administration for Community Living (ACL); the Assistant Secretary for Mental Health and Substance Use; the Assistant Secretary for the Administration for Children and Families; and, as appropriate, the heads of other federal departments or agencies with responsibilities related to current issues affecting grandparents or other older relatives raising children. The Advisory Council also must include at least one grandparent who is raising a grandchild, and at least one older relative caring for children.

Report Requirements: The Advisory Council will develop a report that includes best practices, resources, and other useful information for grandparents and other older relatives raising children (including information related to the needs of children impacted by the opioid epidemic); an identification of gaps in such information and resources; and, where applicable, identification of any additional federal legislative authorities necessary to implement. This report will be provided to the Secretary, Congress, and the state agencies responsible for carrying out family caregiver programs. The initial report will be submitted within six months, with an update submitted within two years. The Advisory Council will establish a process for obtaining public input to inform the development of both the initial report and the subsequent update.

Nomination Process: Any person or organization may nominate one or more qualified grandparents raising grandchildren and/or older relative caregivers of children for membership on the Advisory Committee. ACL also welcomes nominations of others who may be able to provide subject matter expertise or technical contributions to the Advisory Council. This may include (but is not limited to) professionals in academia, providers of supportive services, mental/behavioral health experts, legal and financial service providers, and others who serve these populations. Nomination packages must include: (1) A nomination letter not to exceed one (1) page that provides the reason(s) for nominating the individual, and a description of their relevant experience and/or professional expertise; (2) Contact information for the nominee (name, title (if applicable), address, phone, and email address); and (3) The nominee's resume (not to exceed two (2) pages), if the nomination is based on their professional capacity. For all others, a resume or a written summary of qualifications and life experience (not to exceed two (2) pages) may be submitted, but is not required. Nominees will be appointed based on their demonstrated knowledge, qualifications, and professional or personal experience related to the purpose and scope of the Advisory Council. Members will be appointed for the full life of the Advisory Council, which will sunset in January 2021. Members appointed to fill subsequent vacancies will be appointed for the remainder of the life of the Advisory Council.

Dated: October 5, 2018.
Lance Robertson,
Administrator and Assistant Secretary for Aging.

[FR Doc. 2018-22269 Filed 10-11-18; 8:45 am]

BILLING CODE 4154-01-P